DEPARTMENT OF HOUSING AND URBAN DEVELOPMENT

[Docket No. FR-6460-N-02]

Notice of Regulatory Waiver Requests Granted for the Second Quarter of Calendar Year 2024

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2024 and ending on June 30, 2024.

FOR FURTHER INFORMATION CONTACT: For general information about this notice, contact Aaron Santa Anna, Associate General Counsel for Legislation and Regulations, Department of Housing and Urban Development, 451 7th Street SW, Room 10282, Washington, DC 20410-0500, telephone 202-708-5300 (this is not a toll-free number). HUD welcomes and is prepared to receive calls from individuals who are deaf or hard of hearing, as well as individuals with speech and communication disabilities.

To learn more about how to make an accessible telephone call, please visit please visit: https://www.fcc.gov/consumers/guides/telecommunications-relay-service-trs.

For information concerning a particular waiver that was granted and for which public notice is provided in this document, contact the person whose name and address follow the description of the waiver granted in the accompanying list of waivers that have been granted in the second quarter of calendar year 2024.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2024 through June 30, 2024. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2024) before the next report is published (the third quarter of calendar year 2024), HUD will include any additional waivers granted for the second quarter in the next report.

Accordingly, information about approved waiver requests pertaining to HUD regulations is provided in the Appendix that follows this notice.

Benjamin B. Klubes,
Principal Deputy General Counsel.

Appendix

Listing of Waivers of Regulatory Requirements Granted by Offices of the Department of Housing and Urban Development April 1, 2024 Through June 30, 2024

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

I. Regulatory Waivers Granted by the Office of Community Planning and Development

For further information about the following regulatory waivers, please see the name of the contact person that immediately follows the description of the waiver granted.

• Regulation: 24 CFR 92.252(d)(1).

Project/Activity: Washoe County, Nevada, requested a waiver of 24 CFR 92.252(d)(1) to allow the use of the utility allowance established by the local public housing agency (PHA) for the Copper Mesa Apartments project.

Nature of Requirement: The HOME requirements for establishing utility allowances conflict with Project Based Voucher program requirements. It is not possible to use two different utility allowances to set the rent for a single unit and it is administratively burdensome to require a project owner to establish and implement different utility allowances for HOME-assisted and non-HOME assisted units in a project.

Granted By: Marion M. McFadden, Principal Deputy Assistant Secretary for Community Planning and Development.

Date Granted: April 17, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community and Development, Department of Housing and Urban Development, 451 Seventh Street SW, Room 7160, Washington, DC 20410, telephone (202) 708-2684.

• Regulation: 24 CFR 92.252(d)(1).

Project/Activity: Los Angeles County, California and Santa Ana, California requested waivers of 24 CFR 92.252(d)(1) to allow the use of the utility allowance established by the local public housing agency (PHA) for Metro at Florence (Los Angeles County, CA) and Westview House (Santa Ana, CA), two HOME-assisted rental projects.

Nature of Requirement: The HOME requirements for establishing utility allowances conflict with Project Based Voucher program requirements. It is not possible to use two different utility allowances to set the rent for a single unit and it is administratively burdensome to require a project owner to establish and implement different utility allowances for HOME-assisted and non-HOME assisted units in a project.

Granted By: Marion M. McFadden, Principal Deputy Assistant Secretary for Community Planning and Development.

Date Granted: April 22, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning & Development, Department of Housing and Urban Development, 451 Seventh Street SW, Room 7160, Washington, DC 20410, telephone (202) 708-2684.

• Regulation: Appendix I, Section B.2.a. of the Neighborhood Stabilization Program 2 Notice of Funding Availability (NOFA).

Project/Activity: Habitat for Humanity International's (HfHI) Dallas, TX affiliate redeveloped a property located at 4527 Jamaica Street, Dallas, TX with Neighborhood Stabilization Program (NSP 2) funds made available through the American Recovery and Reinvestment Act of 2009 (the Recovery Act) and applied long-term affordability requirements to the property in accordance with Appendix I, Section B.2.a of the NSP 2 NOFA.

Nature of Requirement: The Housing and Economic Recovery Act of 2008 (HERA) and the Recovery Act required NSP grantees to ensure to the maximum extent practicable and for the longest feasible term, that the sale, rental, or redevelopment of abandoned or foreclosed NSP-assisted homes and residential properties remain affordable to individuals or families whose incomes do not exceed 120 percent of area median income. HUD implemented this requirement in Appendix I, Section B.2.a. of the NSP2 NOFA and provided that any applicant adopting the HOME Investment Partnerships (HOME) program standards at 24 CFR 92.252(a), (c), (e), and 92.254 to be in minimal compliance with the statutory requirement.

Granted By: Marion McFadden, Principal Deputy Assistant Secretary for Community Planning and Development.

Date Granted: April 22, 2024.

Reason Waived: The subject property, one of several hundred redeveloped nationally by HfHI, only met the affordability standard for six years. The HfHI Dallas affiliate foreclosed on the property because the home became occupied by squatters who no longer made mortgage payments, claimed sovereign citizen status, and made death threats against HfHI Dallas affiliate staff.

HUD determined that the grantee met the statutory requirement that the property remain affordable to individuals or families whose incomes do not exceed 120 percent of area median income to the maximum extent practicable and for the longest feasible term. Based on the explanation provided by HfHI and because HUD exercised its policy discretion when it adopted the HOME standard for continued affordability as a means to determine compliance, HUD found good cause to waive this requirement in this instance.

Contact: James E. Höemann, Director, Entitlement Communities Division, Office of Community Planning and Development, Department of Housing and Urban Development, 451 Seventh Street SW, Room 7282, Washington, DC 20410, telephone (202) 402-5716.

II. Regulatory Waivers Granted by the Office of Housing

For further information about the following regulatory waivers, please see the name of the contact person that immediately follows the description of the waiver granted.

• Regulation: 24 CFR 203.604 Servicing Responsibilities, Contact with the Mortgagor.

Project/Activity: Partial Waiver of required face-to-face contact with a mortgagor.

Nature of Requirement: 24 CFR 203.604 Servicing Responsibilities, Contact with the Mortgagor under Subpart C—Servicing Responsibilities of 24 CFR part 203 Single Family Mortgage Insurance, stipulates that mortgagees must have a face-to-face interview with the mortgagor, or make a reasonable effort to arrange a meeting, before three full monthly installments due on the mortgage are unpaid. If default occurs in a repayment plan arranged other than during a personal interview, the mortgagee must have a face-to-face meeting with the mortgagor, or make a reasonable attempt to arrange such a meeting within 30 days after such default and at least 30 days before foreclosure is commenced.

Granted By: Julia R. Gordon, Assistant Secretary for Housing—Federal Housing Commissioner.

Date Granted: April 4, 2024.

Reason Waived: This Partial Waiver that was initially granted on March 13, 2020, at the onset of the Coronavirus Disease 2019 (COVID-19) Pandemic, was issued due to several reasons including, but not limited to, continued public health concerns around the spread of COVID-19. The extension of this Partial Waiver was issued because at the time of issuance, HUD was in the process of considering public comments to finalize rule making proposed to amend the current requirements of § 203.604. Without this Partial Waiver extension, mortgagees have had to restart in-person outreach efforts and face-to-face interviews, which requires significant effort in staffing, contracting, and updating internal processes and borrower communications for the interim period before potential new requirements take effect.

Contact: Elissa Saunders, Director, Office of Single Family Asset Management, Office of Housing, Department of Housing and Urban Development, 451 Seventh Street SW, Washington, DC 20410, telephone (202) 402-708-2121, elissa.o.saunders@hud.gov.

• Regulation: 24 CFR 3282.8(l), Applicability, Multifamily homes.

Project/Activity: Regulatory Waiver to allow for construction of a Two (2) Dwelling Unit Manufactured Home Bearing a HUD Certification Label. The waiver of 24 CFR 3282.8(l) was only available for the specific design and production of one (1) manufactured home and required a Notice to Purchaser.

Nature of Requirement: 24 CFR 3282.8(l), Applicability, Multifamily homes, states “homes designed and manufactured with more than one separate living unit are not covered by the standards and these regulations.” Under current regulations, manufactured home producers are not able to build and ship multi-dwelling unit manufactured homes bearing a HUD certification label.

The National Manufactured Housing and Construction Safety Standards Act of 1974 (the Act) gives HUD authority to set standards for all homes that meet the definition of a “manufactured home” which is broad enough to include multifamily manufactured homes. Under the National Manufactured Home Construction and Safety Standards, 24 CFR 3280 (“Standards”), a manufactured home must display a permanent label certifying to the best of the manufacturer's knowledge and belief that the manufactured home has been inspected and meets all applicable requirements of the Standards or it cannot be sold. See 24 CFR 3280.11, 3282.252(a)(1). HUD procedural and enforcement regulations, 24 CFR part 3282, have historically excluded multi-dwelling unit manufactured homes from the scope of the Standards even though the definition of “manufactured home” in both the Act and the Standards is broad enough to include such homes but for the explicit regulatory exclusion at 24 CFR 3282.8(l).

In April 2024, Cavco Industries, one of the largest builders of manufactured homes in the country, requested an Alternate Construction Approval Letter (“AC”) via the regulatory allowance set forth in 24 CFR 3282.14, Alternative Construction, indicating Cavco's desire to build a multi-dwelling unit home. A complete request package for the design and construction was received and reviewed by the Office of Manufactured Housing Programs. Cavco stated its desire to build a single home for display at the HUD-hosted 2024 Innovative Housing Showcase held in June 2024. In order for the home to be produced and sold bearing a HUD certification label, the regulatory waiver and an AC Letter were be necessary.

Granted by: Julia Gordon, Assistant Secretary for Housing—Federal Housing Commissioner.

Date Granted: April 26, 2024.

Reason Waived: The manufactured home design proposed by Cavco, without a waiver of regulation 24 CFR 3282.8(l), could not be approved or built because it had more than one separate living area included in the design. But for the applicability exclusion in 24 CFR 3282.8(l) and the 24 CFR 3280.2, definition of Dwelling, the home design complied with the current Standards. The design was reviewed by HUD and verified by IBTS that it provided quality, durability, and safety levels equivalent to those required by the Federal Standards. The AC Letter required a number of additional standards that are equivalent or superior to the current Standards, to account for the additional dwelling unit. Also, each dwelling unit, were it to be presented as a separate design, could have been approved under current Standards. Limiting the waiver and the AC Letter provided authority to build a multi-dwelling unit manufactured home that carries the HUD certification label but would not jeopardize public health or safety and would serve the purpose of the Act.

Moreover, the multi-dwelling unit manufactured home was showcased at the Innovative Housing Showcase in June 2024 where it served to inform and educate the general public on an innovative design along with the possibilities of construction practices for future manufactured homes. The home also exhibited an option available to address the nation's affordable housing crisis. The design and build process provided further proof-of-concept testing of the engineering and design/build production process education, adding to the knowledge bank first assembled in the 2010's. The regulatory waiver is good through September 26, 2024.

Contact: Teresa B. Payne, Administrator, Office of Manufactured Housing Programs, Office of Housing, Department of Housing and Urban Development, 451 Seventh Street SW, Room 9168, Washington, DC 20410, telephone (202) 402-5365, email Teresa.L.Payne@hud.gov.

III. Regulatory Waivers Granted by the Office of Public and Indian Housing

For further information about the following regulatory waivers, please see the name of the contact person that immediately follows the description of the waiver granted.

• Regulation: 24 CFR 982.517(b) and 24 CFR 983.301(f)(2)(ii).

Nature of Requirement: The cited regulation requires the PHA to maintain a utility allowance schedule, and the utility allowance for an individual family, must include the utilities and services that are necessary in the locality to provide housing that complies with HQS. The purpose of the waiver request is so the PHA can use the community wide utility allowance schedule used for the whole jurisdiction of the PHA. For redetermination of the initial rent to the owner, the PHA must use the most recently FMRs and the PHA utility allowance schedule. The PHA may use the amounts in effect at any time during the 30-day period immediately before the redetermination date.

Project/Activity: Fairfax County Redevelopment and Housing Authority (FCRHA), Dominion Square Project.

Granted By: Richard Monocchio, Principal Deputy Assistant Secretary for Public and Indian Housing.

Date Granted: April 3, 2024.

Reason Waived: HUD approved the waiver request to allow the use of a site-specific utility allowance to promote utility conservation, ensure the efficient use of Housing Assistance Payment (HAP) funding, and utility allowances with the actual consumption rates of residents.

Contact: Jerone L. Anderson, M.Ed, Housing Program Specialist, Housing Voucher Management and Operations Division, Office of Public and Indian Housing, Department of Housing and Urban Development, 451 Seventh Street SW, Washington, DC 20410, telephone: (202) 402-6709, email: Jerone.l.anderson@hud.gov.

• Regulation: 24 CFR 983.202(b)(2), 24 CFR 983.210(a), 24 CFR 983.210(c), 24 CFR 983.210(d), 24 CFR 983.351(a)(1), 24 CFR 983.260.

Nature of Requirement: 24 CFR 983.202(b)(2) elaborates on the purpose of the HAP contract, defining that a PHA makes housing assistance payments to the owner in accordance with the HAP contract and that housing assistance is paid for contract units leased and occupied by eligible families during the HAP contract term. 24 CFR 983.210(a) requires that the owner is maintaining the premises and all contract units in accordance with HUD's HQS under the requirements established within 24 CFR 983. 24 CFR 983.210(c) requires that each contract unit for which the owner is receiving housing assistance payments is leased to an eligible family referred by the PHA or selected from the owner-maintained waiting list in accordance with § 983.251, and the lease is in accordance with the HAP contract and HUD requirements. 24 CFR 983.210(d) requires that, to the best of the owner's knowledge, the members of the family residing in each contract unit for which the owner is receiving housing assistance payments, and the unit is the family's only residence (exceptions notwithstanding). 24 CFR 983.351(a)(1) requires that during the term of the HAP contract, the PHA shall make housing assistance payments to the owner in accordance with the terms of the HAP contract. 24 CFR 983.260. pertains to how PHAs may handle the withdrawal or extension of assistance payments in the event of overcrowded, under-occupied, and accessible units.

Project/Activity: New York City Housing Authority (NYCHA)/Sack Wern.

Granted By: Richard Monocchio, Principal Deputy Assistant Secretary for Public and Indian Housing.

Date Granted: May 10, 2024.

Reason Waived: Under the authority provided at 24 CFR 5.110 and considering the good cause presented, HUD grants the waivers to temporarily relocate tenants without terminating their original lease and continue HAP payments for occupied units in the project while the rehabilitation work is completed for the following reasons:

• 24 CFR 983.202(b)(2) so that, during the temporary relocation period, housing assistance will be paid for units under contract and occupied by eligible families, and an addendum to the lease will be executed for the temporary units covering the period it takes to complete necessary health and safety improvements.

• 24 CFR 983.210(a) for the units that are unoccupied while lead abatement is being completed. Protections and procedures must be in place to minimize health and safety risks while work is being completed in unoccupied units.

• 24 CFR 983.210(c) so that the contract unit, for which the owner is receiving housing assistance, will be covered by any addendums subject to the temporary unit and ensure equal tenant protections during the period it takes to complete necessary health and safety improvements while the original tenant lease remains in place.

• 24 CFR 983.210(d) so that while tenants are temporarily relocated, they may continue to maintain residency at their leased unit.

• 24 CFR 983.351(a)(1) so that housing assistance payments shall be made for the months during which a contract unit is leased, or for a temporary unit, under a lease addendum, but that no housing assistance payments shall be made for units that are unoccupied.

• 24 CFR 983.260 so that during the temporary relocation period, families may occupy units that are larger than their leased unit and include accessibility features the family does not require.

Contact: Jerone L. Anderson, M.Ed, Housing Program Specialist, Housing Voucher Management and Operations Division, Office of Public and Indian Housing, Department of Housing and Urban Development, 451 Seventh Street SW, Washington, DC 20410, telephone: (202) 402-6709, email: Jerone.l.anderson@hud.gov.

• Regulation: 24 CFR 982.517(b) and 24 CFR 982.517(c).

Nature of Requirement: The cited regulation requires the PHA to maintain a community-wide utility allowance schedule, which must include the utilities and services that are necessary in the locality to provide housing that complies with HQS. For determination and redetermination of the rent to the owner, the PHA must use the PHA's current utility allowance schedule.

Project/Activity: Housing Authority of the City of Austin (HACA), Chalmers East development.

Granted By: Richard Monocchio, Principal Deputy Assistant Secretary for Public and Indian Housing.

Date Granted: May 30, 2024.

Reason Waived: Under the authority provided at 24 § CFR 5.110 and considering the good cause presented, HUD grants the waivers to allow the PBV project-specific utility allowance to apply to tenant-based vouchers used at Chalmers East. HACA presented good cause by explaining that allowing the HACA to apply the project-specific utility allowance to the tenant-based HCV units at the project would: (1) more accurately reflect the lower utility costs at the project, as a result of energy-efficient appliances and green building systems, (2) encourage energy conservation by residents, and (3) avoid misuse of HAP for UA disbursements in excess of what is necessary for the family to maintain utilities. The results of the analysis the HACA provided demonstrate that use of the HACA's current community-wide UA would discourage conservation and efficient use of HAP.

Contact: Nathaniel Johnson, Senior Housing Program Specialist, Housing Voucher Management and Operations Division, Office of Public and Indian Housing, Department of Housing and Urban Development, 451 Seventh Street SW, Washington, DC 20410, telephone (202) 402-5156, email Nathaniel.Johnson@hud.gov.

• Regulation: 24 CFR 982.54(a), 24 CFR 960.202(c)(1).

Nature of Requirement: 24 CFR 982.54(a) states that the PHA must adopt a written administrative plan that establishes local policies for administration of the program in accordance with HUD requirements. The administrative plan and any revisions of the plan must be formally adopted by the PHA Board of Commissioners or other authorized PHA officials. The administrative plan states PHA policy on matters for which the PHA has discretion to establish local policies.

Project/Activity: Los Angeles County Development Authority (LACDA).

Granted By: Richard Monocchio, Principal Deputy Assistant Secretary for Public and Indian Housing.

Date Granted: May 30, 2024.

Reason Waived: Under the authority provided at 24 CFR 5.110 and based on the information submitted by the LACDA, HUD determined there was good cause to approve the waiver of 24 CFR 982.54(a) to immediately implement a policy to accept Safe Harbor verifications of income in its HCV program. HUD also found good cause to waive the regulation at 24 CFR 960.202(c)(1) to allow the same policy to be immediately implemented in the LACDA's public housing program, prior to formal board approval of changes to the ACOP. LACDA presented good cause by explaining that LACDA is requesting these regulatory waivers to have the ability to fully implement Safe Harbor verifications before its administrative plan is updated this summer. Allowing for Safe Harbor determinations streamlines the admissions and income determinations process, addressing the urgent homelessness and housing affordability crisis in the LACDA's operating area. The LACDA is scheduled to have its Safe Harbor rule and discretionary policies approved for use in both the Administrative Plan and the Admissions and Continued Occupancy Policy (ACOP) by July 1, 2024, but approval of these waivers would allow immediate use of the Safe Harbor provision, which would benefit families who have an income determination from another federal means-tested program.

Contact: Susannah Roetlin, Senior Housing Program Specialist, Housing Voucher Management and Operations Division, Office of Public and Indian Housing, Department of Housing and Urban Development, 451 Seventh Street SW, Washington, DC 20420, telephone (303) 672-5090, email susannah.s.roetlin@hud.gov.

• Regulation: 24 CFR 982.201(e).

Nature of Requirement: Requires the PHA to receive information verifying that an applicant is eligible, including eligibility for any deductions, within the period of 60 days before the PHA issues a voucher to the applicant.

Project/Activity: Dallas County Department of Health and Human Services (DCHHS).

Granted By: Richard Monocchio, Principal Deputy Assistant Secretary for Public and Indian Housing.

Date Granted: May 31, 2024.

Reason Waived: The DCHHS requests the ability to utilize self-certification of date of birth and disability status, which is required for individuals when it impacts the income and tenant rent calculation and eligibility for the elderly/disabled deduction. The DCHHS requests to implement the alternative requirement specifically for people experiencing homelessness. Under the authority provided at 24 CFR 5.110, HUD has determined there is good cause to waive verifying date of birth and disability status for people experiencing homelessness at the time of admission for purposes of determining the family's eligible expenses and deductions.

Contact: Susannah Roetlin, Senior Housing Program Specialist, Housing Voucher Management and Operations Division, Office of Public and Indian Housing, Department of Housing and Urban Development, 451 Seventh Street SW, Washington, DC 20420, telephone (303) 672-5090, email susannah.s.roetlin@hud.gov.

• Regulation: 24 CFR 983.301(f)(4).

Nature of Requirement: HUD may establish a process allowing PHAs to adopt project-specific utility allowances by notification in the Federal Register subject to public comment. Absent the establishment of such a project-specific utility allowance, the PHA's utility allowance schedule, as determined under 24 CFR 982.517(b)(2)(i) or (ii), applies to both the tenant-based and PBV programs.

Project/Activity: Kenner Housing Authority (KHA), Affordable Properties projects.

Granted By: Richard Monocchio, Principal Deputy Assistant Secretary for Public and Indian Housing.

Date Granted: June 17, 2024.

Reason Waived: Under the waiver authority provided at 24 CFR 5.110 and considering the good cause presented, HUD grants the waiver so that the KHA may establish a project-specific utility allowance for the KHA Affordable Properties projects. The good cause justification for a project-specific utility allowance centers on promoting utility conservation, ensuring the efficient use of Housing Assistance Payment (HAP) funding, and aligning utility allowances with the actual consumption rates of residents.

Contact: Jerone L. Anderson, M.Ed, Housing Program Specialist, Housing Voucher Management and Operations Division, Office of Public and Indian Housing, Department of Housing and Urban Development, 451 Seventh Street SW, Washington, DC 20410, telephone: (202) 402-6709, email: Jerone.l.anderson@hud.gov.

Extended Streamlined Waivers

• Regulation: 24 CFR 982.505(c)(4) Increase in Payment Standard During Housing Assistance Payment (HAP) Contract Term.

Project/Activity: Notice PIH 2023-29 Extension of Certain Regulatory Waivers for the Housing Choice Voucher (including Mainstream) Program and Streamlined Review Process.

Nature of Requirement: If the payment standard amount is increased during the term of the HAP contract, the increased payment standard amount shall be used to calculate the monthly housing assistance payment for the family beginning at the effective date of the family's first regular reexamination on or after the effective date of the increase in the payment standard amount.

Reason Waived: The PHAs were authorized to increase the payment standards for families at any time after the effective date of the payment standard increase, rather than waiting for the next regular reexamination. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for earlier implementation of increased payment standards for families helped ensure that families living in rental markets with ongoing fluctuations and disruptions were not adversely impacted by rapidly increasing rents.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, telephone (202) 402-7026, email PIH_Expedited_Waivers@hud.gov.

Code | PHAs | Waiver signed
AL008 | Selma Housing Authority | 2/22/2024
CA007 | County of Sacramento Housing Authority | 1/31/2024
CA033 | County of Monterey Housing Authority | 1/31/2024
CA055 | Housing Authority of the City of Vallejo | 3/14/2024
FL032 | Ocala Housing Authority | 1/3/2024
FL068 | Housing Authority of the City of Homestead | 1/9/2024
IA045 | Davenport Housing Commission | 1/3/2024
IL124 | Housing Authority of East Peoria | 2/22/2024
IN004 | Delaware County Housing Authority | 1/9/2024
IN005 | Housing Authority of the City of Muncie | 2/22/2024
IN006 | Housing Authority of the City of Anderson | 2/9/2024
IN009 | Housing Authority of the City of Richmond | 2/9/2024
IN011 | Housing Authority of the City of Gary | 1/31/2024
IN019 | Housing Authority of the City of Michigan City | 3/14/2024
IN020 | Housing Authority of the City of Mishawaka | 1/9/2024
IN025 | Housing Authority of the City of Charlestown | 2/9/2024
IN047 | Housing Authority of the City of Crawfordsville | 1/3/2024
IN050 | New Castle Housing Authority | 1/31/2024
IN078 | Housing Authority of the City of Greensburg | 1/31/2024
IN086 | Housing Authority of the City of Union City | 1/9/2024
IN091 | Housing Authority of the City of Peru | 2/22/2024
IN901 | Indiana Housing and Community Development | 1/3/2024
MO227 | Housing Assistance Program of St Charles County | 1/31/2024
NE181 | Goldenrod Regional Housing Agency | 1/9/2024
NH009 | Lebanon Housing Authority | 3/6/2024
NY009 | Albany Housing Authority | 3/6/2024
NY406 | Village of Fairport | 2/22/2024
OH029 | Ashtabula Metropolitan Housing Authority | 1/31/2024
PA047 | Wilkes Barre Housing Authority | 1/31/2024
RQ013 | Municipality of Trujillo Alto | 3/14/2024
SC028 | Housing Authority of Georgetown | 3/6/2024
TN026 | Etowah Housing Authority | 2/22/2024
TN054 | Cleveland Housing Authority | 1/3/2024
TN062 | Dayton Housing Authority | 1/31/2024
TX512 | Deep East Texas Council of Governments | 1/31/2024
UT028 | Roosevelt City Housing Authority | 2/22/2024
WI206 | Door County Housing Authority | 1/31/2024

• Regulation: 24 CFR 982.503(b)(1)(iv) Exception Payment Standards up to 120% of the SAFMRs for PHAs that are in mandatory SAFMR areas.

Project/Activity: Notice PIH 2023-29 Extension of Certain Regulatory Waivers for the Housing Choice Voucher (including Mainstream) Program and Streamlined Review Process.

Nature of Requirement: At the request of a PHA administering the HCV program under Small Area FMRs, HUD may approve an exception payment standard for a Small Area FMR area above the 110 percent of the published FMR in accordance with conditions set forth by Notice in the Federal Register.

Reason Waived: The PHAs were authorized to adopt a payment standard above the basic range, up to 120 percent of the Small Area FMR. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR helped ensure that families living in rental markets with ongoing fluctuations and disruptions were not adversely impacted by rapidly increasing rents and were able to find rental units with their voucher.

Granted by: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, telephone (202) 402-7026, email PIH_Expedited_Waivers@hud.gov.

Code | PHAs | Waiver signed
AZ038 | Chandler Housing Authority | 2/9/2024
CA007 | County of Sacramento Housing Authority | 1/31/2024
CA033 | County of Monterey Housing Authority | 1/31/2024
IN011 | Housing Authority of the City of Gary | 1/31/2024
IN086 | Housing Authority of the City of Union City | 1/9/2024
IN901 | Indiana Housing and Community Development | 1/3/2024
PA015 | Fayette County Housing Authority | 1/31/2024
TN054 | Cleveland Housing Authority | 1/3/2024
UT016 | Housing Authority of Carbon County | 1/9/2024

• Regulation: 24 CFR 982.503(c)(1)-(2) and (4)-(5) Exception Payment Standards up to 120% of the FMR.

Project/Activity: Notice PIH 2023-29 Extension of Certain Regulatory Waivers for the Housing Choice Voucher (including Mainstream) Program and Streamlined Review Process.

Nature of Requirement: PHAs may request an exception payment standard of up to 120 percent of the applicable Fair Market Rent and apply it throughout their jurisdiction.

Reason Waived: The PHAs were authorized to adopt a payment standard above the basic range, up to 120 percent of the Fair Market Rent, and apply it throughout their jurisdiction. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR helped ensure that families living in rental markets with ongoing fluctuations and disruptions were not adversely impacted by rapidly increasing rents and were able to find rental units with their voucher.

Granted by: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, telephone (202) 402-7026, email PIH_Expedited_Waivers@hud.gov.

Code | PHAs | Waiver signed
AL008 | Selma Housing Authority | 2/22/2024
AR020 | Little River County Housing Authority | 1/31/2024
AR197 | White River Regional Housing Authority | 1/31/2024
CA033 | County of Monterey Housing Authority | 1/31/2024
CA055 | Housing Authority of the City of Vallejo | 3/14/2024
CA086 | County of Humboldt Housing Authority | 3/14/2024
CA144 | Lake County Housing Commission | 1/3/2024
FL017 | Housing Authority of the City of Miami Beach | 1/3/2024
FL032 | Ocala Housing Authority | 1/3/2024
FL049 | North Central Florida Regional County | 3/14/2024
FL068 | Housing Authority of the City of Homestead | 1/9/2024
IA045 | Davenport Housing Commission | 1/3/2024
IL082 | Housing Authority of the County of Jodaviess | 3/14/2024
IN004 | Delaware County Housing Authority | 1/9/2024
IN005 | Housing Authority of the City of Muncie | 2/22/2024
IN006 | Housing Authority of the City of Anderson | 2/9/2024
IN009 | Housing Authority of the City of Richmond | 2/9/2024
IN019 | Housing Authority of the City of Michigan City | 3/14/2024
IN020 | Housing Authority of the City of Mishawaka | 1/9/2024
IN025 | Housing Authority of the City of Charlestown | 2/9/2024
IN047 | Housing Authority of the City of Crawfordsville | 1/3/2024
IN050 | New Castle Housing Authority | 1/31/2024
IN086 | Housing Authority of the City of Union City | 1/9/2024
KY026 | Housing Authority of Glasgow | 3/14/2024
KY157 | Housing Authority of Floyd County | 3/6/2024
KY161 | Appalachian Foothills Housing Agency Inc | 3/14/2024
MI880 | Housing Services Mid-Michigan | 2/22/2024
MO065 | Chillicothe Housing Authority | 3/6/2024
MO212 | Ripley County Public Housing Agency | 1/31/2024
MO227 | Housing Assistance Program of St. Charles County | 1/31/2024
MT006 | Richland County Housing Authority | 3/6/2024
NE181 | Goldenrod Regional Housing Agency | 1/9/2024
NH009 | Lebanon Housing Authority | 3/6/2024
NY001 | Syracuse Housing Authority | 3/6/2024
NY009 | Albany Housing Authority | 3/6/2024
NY406 | Village of Fairport | 2/22/2024
OH001 | Columbus Metropolitan Housing Authority | 2/9/2024
OH029 | Ashtabula Metropolitan Housing Authority | 1/31/2024
PA038 | Lackawanna County Housing Authority | 1/31/2024
PA047 | Wilkes Barre Housing Authority | 1/31/2024
RQ013 | Municipality of Trujillo Alto | 2/9/2024
SC002 | Housing Authority of the City of Columbia | 1/31/2024
SC028 | Housing Authority of Georgetown | 3/6/2024
TN006 | Kingsport Housing and Redevelopment Authority | 1/9/2024
TN026 | Etowah Housing Authority | 2/22/2024
TN054 | Cleveland Housing Authority | 1/3/2024
TN062 | Dayton Housing Authority | 1/31/2024
TX512 | Deep East Texas Council of Governments | 1/31/2024
WI048 | New London Housing Authority | 1/9/2024
WI206 | Door County Housing Authority | 1/31/2024
WV005 | Housing Authority of the City of Parkersburg | 2/9/2024

• Regulation: 24 CFR 982.503(b)(1)(iii) Exception Payment Standards up to 120% for PHAs that are currently approved for exception payment standard SAFMRs.

Project/Activity: Notice PIH 2023-29 Extension of Certain Regulatory Waivers for the Housing Choice Voucher (including Mainstream) Program and Streamlined Review Process.

Nature of Requirement: PHAs may request an extension of expedited waiver(s) to allow for establishment of payment standards up to 120 percent of its applicable FY2024 SAFMRs.

Reason Waived: The PHAs were authorized to adopt a payment standard above the basic range, up to 120 percent of their approved Small Area FMR exception payment standards. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR exception payment standards helped ensure that families living in rental markets with ongoing fluctuations and disruptions were not adversely impacted by rapidly increasing rents and were able to find rental units with their voucher.

Granted by: Dominique Blom, General Deputy Assistant for Public and Indian Housing.

Contact: Tesia Anyanaso, Office of Field Operations/Coordination and Compliance Division, Office of Public and Indian Housing, Department of Housing and Urban Development, 451 7th Street SW, Suite 3180, Washington, DC 20410, telephone (202) 402-7026, email PIH_Expedited_Waivers@hud.gov.

Code | PHAs | Waiver signed
CA033 | County of Monterey Housing Authority | 1/31/2024
FL021 | Pahokee Housing Authority | 2/9/2024
IN086 | Housing Authority of the City of Union City | 1/9/2024
IN901 | Indiana Housing and Community Development | 1/3/2024
KY040 | Housing Authority of Mayfield | 1/31/2024
MO227 | Housing Assistance Program of St. Charles County | 1/31/2024
TN006 | Kingsport Housing and Redevelopment | 1/9/2024
UT016 | Housing Authority of Carbon County | 1/9/2024

[FR Doc. 2024-27381 Filed 11-21-24; 8:45 am]

BILLING CODE 4210-67-P